DEPARTMENT OF HEALTH AND HUMAN SERVICES

Health Resources and Services Administration

Advisory Council; Notice of Meeting

In accordance with section 10(a)(2) of the Federal Advisory Committee Act (Pub. L. 92-463), announcement is made of the following National Advisory body scheduled to meet during the month of June 2002.

Name: National Advisory Council on Nurse Education and Practice.

Date and Time: June 19, 2002, 8:30 a.m.-3:30 p.m.

Place: The Melrose Hotel, 2430 Pennsylvania Avenue, NW, Washington, DC 20037.

The meeting is open to the public.

Agenda: Presentations by national experts, including a panel of Council members on topics related to the nurse workforce shortage in the practice arena and best practices for retention of nurses; review of Health Professions Education Summit; and review of the draft version of the Second Report to the Secretary of Health and Human Services and the Congress.

Anyone interested in obtaining a roster of members, minutes of the meeting, or other relevant information should write or contact Ms. Elaine G. Cohen, Executive Secretary, National Advisory Council on Nurse Education and Practice, Parklawn Building, Room 9-35, 5600 Fishers Lane, Rockville, Maryland 20857, telephone (301) 443-1405.

Dated: May 23, 2002.
Jane M. Harrison,
Director, Division of Policy Review and Coordination.

[FR Doc. 02-13463 Filed 5-29-02; 8:45 am]

BILLING CODE 4165-15-P